FEDERAL COMMUNICATIONS COMMISSION

47 CFR Part 51

[CC Docket No. 98-147; DA 02-506]

Update and Refresh Record on Rules Adopted in 1998 Advanced Services Docket

AGENCY: Federal Communications Commission.

ACTION: Proposed rule.

SUMMARY: This document invites comment on the advisability of eliminating, repealing, or amending specific language in the Commission's rules on standards for physical collocation and virtual location. The Commission is taking this action in response to a request by Verizon that the Commission clarify that this rule does not preclude an incumbent LEC from installing a point of termination bay (POT bay) at the point where an incumbent LEC's facilities terminate and a collocator's facilities begin.

DATES: Comments are due March 25, 2002 and reply comments are due April 2, 2002.

FOR FURTHER INFORMATION CONTACT: John Adams, Attorney Advisor, Janice Myles, Policy and Program Planning Division, Common Carrier Bureau, (202) 418-1580.

SUPPLEMENTARY INFORMATION: This is a summary of the Commission's document regarding CC Docket No. 98-147, released on March 4, 2002. The complete text of this document is available for inspection and copying during normal business hours in the FCC Reference Information Center, Portals II, 445 12th Street, SW., Room CY-A257, Washington, DC, and also may be purchased from the Commission's copy contractor, Qualex International, Portals II, 445 12th Street, SW., Room CY-B402 Washington, DC, telephone (202) 863-2893, facsimile (202) 863-2898, or via e-mail qualex@aolcom. It is also available on the Commission's website at http://www.fcc.gov.

Synopsis

In the Advanced Services First Report and Order, the Commission adopted rule 51.323(k)(2), which provides, in pertinent part, that “[a]n incumbent LEC may not require competitors to use an intermediate interconnection arrangement in lieu of direct connection to the incumbent's network if technically feasible.” Verizon requests that the Commission clarify that this rule does not preclude an incumbent LEC from installing a POT bay at the point where an incumbent LEC's facilities terminate and a collocator's facilities begin. In order to ensure a complete record regarding this area, the Commission is issuing this Public Notice and inviting comment on whether the Commission should amend or repeal the portion of rule 51.323(k)(2) quoted above. The Commission requests that commenters explain in detail why retention, amendment, or repeal of this rule to allow incumbent LECs to use POT bays when provisioning interconnection would address their concerns.

Federal Communications Commission.
Michelle M. Carey,
Chief, Policy and Program Planning Division, Common Carrier Bureau.

[FR Doc. 02-5663 Filed 3-7-02; 8:45 am]

BILLING CODE 6712-01-P